DEPARTMENT OF HEALTH AND HUMAN SERVICES

Centers for Medicare & Medicaid Services

42 CFR Part 412

[CMS-1806-CN]

RIN 0938-AV32

Medicare Program; FY 2025 Inpatient Psychiatric Facilities Prospective Payment System—Rate Update; Correction

AGENCY: Centers for Medicare & Medicaid Services (CMS), HHS.

ACTION: Final action; correction.

SUMMARY: This document corrects technical errors in the final action that appeared in the August 7, 2024 Federal Register titled “Medicare Program; FY 2025 Inpatient Psychiatric Facilities Prospective Payment System—Rate Update”.

DATES: This correction is effective October 1, 2024.

FOR FURTHER INFORMATION CONTACT:

The IPF Payment Policy mailbox at IPFPaymentPolicy@cms.hhs.gov for information regarding the IPF wage index.

Nick Brock (410) 786-5148, for general information regarding the inpatient psychiatric facilities prospective payment system (IPF PPS).

SUPPLEMENTARY INFORMATION:

I. Background

In FR Doc. 2024-16909 of August 7, 2024, the fiscal year (FY) 2025 Inpatient Psychiatric Facilities Prospective Payment System (IPF PPS) final rule (89 FR 64582), there were technical errors that are identified and corrected in this correcting document. These corrections are effective as if they had been included in the FY 2025 IPF PPS final rule. Accordingly, the corrections are effective October 1, 2024.

II. Summary of Errors

A. Summary of Errors in the Preamble

There was a technical error in the calculation of the final FY 2025 IPF PPS wage indexes, which impacted several calculations. There is an impact to the wage index for twelve providers in Core-Based Statistical Area (CBSA) 26 for rural Missouri due to the recalculated wage indexes, and thus we recalculated the impact analysis provided in Table 24 of the FY 2025 IPF PPS final rule (89 FR 64670 through 64671). Therefore, changes are needed to the published values in Table 24. We also recalculated the wage index budget neutrality factor; however, after recalculating, there are no changes needed to the published wage index budget neutrality factor because the difference between the previously published factor and the newly calculated factor is within the margin of error for rounding. This means that the recalculated wage index budget neutrality factor remained 0.9996 and the IPF federal per diem base rate remained $876.53.

On pages 64670 and 64671, Table 24 reflects the impact to providers based on the inaccurate calculation of the FY 2025 IPF PPS wage index; therefore, Table 24 should be updated to reflect the correct calculations.

On page 64672, the payment percent increase for rural areas of “3.8 percent” is incorrect; therefore, “3.8 percent” should be replaced with “3.9 percent”.

B. Summary of Errors in and Corrections to the Tables Posted on the CMS website for the IPF PPS Wage Index

As discussed in the FY 2025 IPF PPS final rule (89 FR 64582), we used the concurrent pre-floor, pre-reclassified Inpatient Prospective Payment System (IPPS) hospital wage index as the basis for the IPF wage index. For FY 2025, concurrent pre-floor, pre-reclassified IPPS hospital wage data used under the IPF PPS are for cost reporting periods beginning on or after October 1, 2020 and before October 1, 2021 (FY 2021 cost report data), as discussed in the final rule titled, “Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes” (89 FR 68986) (hereinafter referred to as the FY 2025 IPPS final rule). In calculating the wage index under the FY 2025 IPPS final rule, we made an inadvertent error related to the calculation of the wage index. This error is identified, discussed, and corrected in the correction notice titled, “Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes; Correction”, published elsewhere in this issue of the Federal Register.

In the FY 2025 Hospital Inpatient Prospective Payment Systems and Long-Term Care Hospital Prospective Payment System (IPPS/LTCH PPS) final rule (89 FR 68986), we finalized a policy to exclude hospitals that have subsequently converted to rural emergency hospitals (REHs) from the wage index. Specifically, we stated that any hospital that is designated as a REH by 7 days prior to the publication of the preliminary wage index public use file (PUF) is excluded from the calculation of the wage index. We inadvertently treated a current IPPS hospital as a hospital that had converted to REH status, thereby erroneously excluding its data from the wage index (CMS Certification Number (CCN) 26-0163). Therefore, we restored the wage data for this hospital to be included in the wage index.

This error affects the unadjusted, pre-reclassified, pre-rural floor IPPS wage data and thereby affects the IPF PPS wage data for CBSA 26 for rural Missouri.

We are correcting the wage index for CBSA 26 rural Missouri in Table B setting forth the wage indexes for rural areas based on CBSA labor market areas and Table C setting forth the wage indexes for urban and rural areas without counties, which are available exclusively on the CMS website at https://www.cms.gov/medicare/medicare-fee-for-service-payment/inpatientpsychfacilpps/wageindex.

The omitted wage data for the one hospital in CBSA 26 required the recalculation of the final FY 2025 IPF PPS wage indexes. Additionally, as discussed in the FY 2025 IPF PPS final rule (89 FR 64582), changes to the wage index are made in a budget neutral manner so that updates do not increase expenditures. Due to the recalculation and subsequent revision of the final FY 2025 IPF PPS wage indexes, it was necessary to recalculate the FY 2025 IPF PPS wage index budget neutrality factor. However, as discussed above, no changes are needed to the published wage index budget neutrality factor since the difference between the previously published factor and the newly calculated factor is within the margin of error for rounding. This means that the recalculated wage index budget neutrality factor remained 0.9996 and the IPF federal per diem base rate remained $876.53.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

We believe that this correcting document does not constitute a rule that would be subject to the notice and comment or delayed effective date requirements. This document corrects technical errors in the preamble of the FY 2025 IPF PPS final rule, as well as two tables on the Centers for Medicare & Medicaid Services (CMS) website, but does not make substantive changes to the policies or payment methodologies that were adopted in the final rule. As a result, this correcting document is intended to ensure that the information in the FY 2025 IPF PPS final rule accurately reflects the policies adopted in that document.

In addition, even if this were a rule to which the notice and comment procedures and delayed effective date requirements applied, we find that there is good cause to waive such requirements. Undertaking further notice and comment procedures to incorporate the corrections in this document into the final rule or delaying the effective date would be contrary to the public interest because it is in the public's interest for IPFs to receive appropriate payments in a timely manner to ensure that the FY 2025 IPF PPS final rule accurately reflects our policies as of the date they take effect and are applicable. Furthermore, such procedures would be unnecessary, as we are not altering our payment methodologies or policies, but rather, we are simply correctly implementing the policies that we previously proposed, received comment on, and subsequently finalized. This correcting document is intended solely to ensure that the FY 2025 IPF PPS final rule accurately reflects these payment methodologies and policies. For these reasons, we believe we have good cause to waive the notice and comment and effective date requirements.

IV. Correction of Errors in the Preamble

In FR Doc. 2024-16909 of August 7, 2024 (89 FR 64582), make the following corrections:

1. On pages 64670 and 64671, TABLE 24: FY 2025 IPF PPS PAYMENT IMPACTS is corrected to read as follows:

Table 24—FY 2025 IPF PPS Payment Systems
[Percent change in columns 3 through 6]
Facility by type | Number of facilities | Outlier | Refinement of patient-level adjustments and ECT | Wage index FY25, LRS, and 5% Cap | Total percent change ¹
(1) | (2) | (3) | (4) | (5) | (6)
All Facilities | 1,419 | −0.3 | 0.0 | 0.0 | 2.5
Total Urban | 1,162 | −0.3 | 0.0 | −0.2 | 2.3
Urban unit | 645 | −0.4 | 0.5 | −0.6 | 2.3
Urban hospital | 517 | −0.1 | −0.5 | 0.2 | 2.5
Total Rural | 257 | −0.1 | −0.3 | 1.4 | 3.9
Rural unit | 197 | −0.1 | 0.1 | 1.1 | 4.0
Rural hospital | 60 | −0.2 | −1.1 | 2.1 | 3.6
By Type of Ownership:
Freestanding IPFs:
Urban Psychiatric Hospitals:
Government | 119 | −0.5 | 1.1 | −0.6 | 2.7
Non-Profit | 97 | −0.1 | −0.1 | −0.3 | 2.3
For-Profit | 301 | 0.0 | −0.9 | 0.6 | 2.5
Rural Psychiatric Hospitals:
Government | 30 | −0.3 | 1.6 | −0.3 | 3.9
Non-Profit | 12 | −0.5 | −1.5 | 0.3 | 1.0
For-Profit | 18 | 0.0 | −2.3 | 3.7 | 4.2
IPF Units:
Urban:
Government | 93 | −0.8 | 0.8 | −0.1 | 2.7
Non-Profit | 430 | −0.4 | 0.7 | −0.9 | 2.1
For-Profit | 122 | −0.2 | −0.5 | 0.1 | 2.3
Rural:
Government | 44 | −0.1 | −0.1 | 0.7 | 3.4
Non-Profit | 113 | −0.2 | 0.4 | 1.2 | 4.3
For-Profit | 40 | −0.1 | −0.1 | 1.3 | 4.0
By Teaching Status:
Non-teaching | 1,217 | −0.2 | −0.2 | 0.3 | 2.7
Less than 10% interns and residents to beds | 100 | −0.5 | 0.6 | −1.1 | 1.9
10% to 30% interns and residents to beds | 76 | −0.6 | 1.2 | −1.2 | 2.2
More than 30% interns and residents to beds | 26 | −0.7 | 1.2 | −0.1 | 3.2
By Region:
New England | 99 | −0.4 | 0.9 | −1.5 | 1.8
Mid-Atlantic | 191 | −0.4 | 0.3 | −1.7 | 0.9
South Atlantic | 228 | −0.2 | 0.4 | 1.3 | 4.4
East North Central | 225 | −0.2 | 0.0 | 0.5 | 3.2
East South Central | 140 | −0.1 | −0.2 | 2.6 | 5.0
West North Central | 95 | −0.5 | 1.1 | 0.0 | 3.4
West South Central | 213 | −0.1 | −1.2 | 1.6 | 3.2
Mountain | 102 | −0.2 | −0.3 | 0.8 | 3.1
Pacific | 126 | −0.3 | −0.5 | −1.8 | 0.1
By Bed Size:
Psychiatric Hospitals:
Beds: 0-24 | 87 | −0.1 | −0.9 | 0.8 | 2.5
Beds: 25-49 | 86 | 0.0 | −1.3 | 1.3 | 2.7
Beds: 50-75 | 91 | −0.1 | −0.4 | 0.9 | 3.2
Beds: 76 + | 313 | −0.1 | −0.3 | 0.0 | 2.3
Psychiatric Units:
Beds: 0-24 | 440 | −0.2 | 0.0 | 0.3 | 2.9
Beds: 25-49 | 229 | −0.3 | 0.5 | −0.7 | 2.3
Beds: 50-75 | 103 | −0.4 | 0.7 | 0.1 | 3.2
Beds: 76 + | 70 | −0.7 | 0.6 | −1.2 | 1.5
¹ This column includes the impact of the updates in columns (3) through (6) above, and of the IPF market basket percentage for FY 2025 of 3.3 percent, reduced by 0.5 percentage point for the productivity adjustment as required by section 1886(s)(2)(A)(i) of the Act.

2. On page 64672, in the first column, in the first full paragraph, in line 6, “3.8” is corrected to read “3.9”.

Elizabeth J. Gramling,
Executive Secretary to the Department, Department of Health and Human Services.

[FR Doc. 2024-22496 Filed 9-27-24; 4:15 pm]

BILLING CODE 4120-01-P